DEPARTMENT OF EDUCATION

Alcohol and Other Drug Prevention Models on College Campuses

AGENCY: Office of Safe and Drug-Free Schools, Department of Education.

ACTION: Notice of final priority and eligibility requirements.

SUMMARY: The Assistant Deputy Secretary for Safe and Drug-Free Schools announces a priority and eligibility requirements under the Alcohol and Other Drug Prevention Models on College Campuses grant competition. We may use the priority and eligibility requirements for competitions in FY 2005 and later years. We take this action to focus Federal financial assistance on an identified national need. We intend the priority and eligibility requirements to support the identification and dissemination of models of effective alcohol and other drug prevention at institutions of higher education (IHEs).

DATES: The priority and eligibility requirements are effective July 25, 2005.

FOR FURTHER INFORMATION CONTACT: Vera Messina, U.S. Department of Education, 400 Maryland Avenue, SW., room 3E258, Washington, DC 20202-6450. Telephone: (202) 260-8273 or via Internet: vera.messina@ed.gov; or Ruth Tringo, U.S. Department of Education, 400 Maryland Avenue, SW., room 3E338, Washington, DC 20202-6450. Telephone: (202) 260-2838 or via Internet: ruth.tringo@ed.gov.

If you use a telecommunications device for the deaf (TDD), you may call the Federal Relay Service (FRS) at 1-800-877-8339.

Individuals with disabilities may obtain this document in an alternative format (e.g., Braille, large print, audiotape, or computer diskette) on request to the contact persons listed under FOR FURTHER INFORMATION CONTACT.

SUPPLEMENTARY INFORMATION: The Department of Education seeks to support projects that address high-risk drinking and drug use and that can become practical models for replication and adaptation in other college communities. The goals of this program are to identify models of effective campus-based alcohol and other drug prevention programs and disseminate information about these programs to other colleges and universities where similar efforts may be adopted.

We published a notice of proposed priority and eligibility requirements for this program in the Federal Register on April 8, 2005 (70 FR 17984).

Other than minor editorial changes, there are no differences between the notice of proposed priority and eligibility requirements and this notice of final priority and eligibility requirements.

Public Comment

In the notice of proposed priority and eligibility requirements, we invited comments on the proposed priority and eligibility requirements. We did not receive any substantive comments.

Note: This notice does not solicit applications. In any year in which we choose to use the priority and eligibility requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Under this priority the Department provides funding to institutions of higher education (IHEs) that have been implementing effective alcohol and other drug prevention programs on their campuses. An IHE that receives funding under this priority must identify, enhance, further evaluate, and disseminate information about an effective alcohol or other drug prevention program being implemented on its campus. To meet the priority, applicants must provide in their application—

(1) A description of an alcohol or other drug prevention program that has been implemented for at least two full academic years on the applicant's campus;

(2) Evidence of the effectiveness of the program on the applicant's campus;

(3) A plan to enhance and further evaluate the program during the project period; and

(4) A plan to disseminate information to assist other IHEs in implementing a similar program.

Eligibility Requirements

Only institutions of higher education (IHEs) that offer an associate or baccalaureate degree will be eligible under this program. Additionally, to be eligible, an IHE must not have received an award under this grant competition (CFDA 84.184N) during the previous five fiscal years (fiscal years 2000 through 2004).

Executive Order 12866

This notice of final priority and eligibility requirements has been reviewed in accordance with Executive Order 12866. Under the terms of the order, we have assessed the potential costs and benefits of this regulatory action.

The potential costs associated with the notice of final priority and eligibility requirements are those resulting from statutory requirements and those we have determined as necessary for administering this program effectively and efficiently.

In assessing the potential costs and benefits—both quantitative and qualitative—of this notice of final priority and eligibility requirements, we have determined that the benefits of the final priority and eligibility requirements justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7131.

(Catalog of Federal Domestic Assistance Number 84.184N Office of Safe and Drug-Free Schools—Alcohol and Other Drug Prevention Models on College Campuses)
Dated: June 21, 2005.
Deborah A. Price,
Assistant Deputy Secretary for Safe and Drug-Free Schools.

[FR Doc. 05-12589 Filed 6-23-05; 8:45 am]

BILLING CODE 4000-01-P